DEPARTMENT OF THE INTERIOR

Bureau of Reclamation

Final Environmental Impact Statement/Environmental Impact Report for the San Joaquin River Exchange Contractors Water Authority's 25-Year Water Transfer Program, 2014-2038, San Joaquin Valley, CA

AGENCY: Bureau of Reclamation, Interior.

ACTION: Notice of availability.

SUMMARY: The Bureau of Reclamation and the San Joaquin River Exchange Contractors Water Authority have prepared a Final Environmental Impact Statement/Environmental Impact Report (EIS/EIR) for a 25-Year Water Transfer Program, 2014-2038. The proposed new program would provide for the transfer and/or exchange of up to 150,000 acre-feet of substitute water from the San Joaquin River Exchange Contractors Water Authority to several potential users over a 25-year timeframe (water service years 2014-2038).

A Notice of Availability of the joint Draft EIS/EIR was published in the Federal Register on Friday, May 4, 2012 (77 FR 26578). The written comment period on the Draft EIS/EIR ended Tuesday, July 3, 2012. The Final EIS/EIR contains responses to all comments received and reflects comments and additional information received during the review period.

DATES: The Bureau of Reclamation will not make a decision on the proposed action until at least 30 days after release of the Final EIS/EIR. After the 30-day waiting period, Reclamation will complete a Record of Decision (ROD). The ROD will state the action that will be implemented and will discuss all factors leading to the decision.

ADDRESSES: To request a compact disc of the Final EIS/EIR, please contact Mr. Brad Hubbard, Bureau of Reclamation, 2800 Cottage Way, Room 2905, Sacramento, California 95825; telephone, 916-978-5034; or email bhubbard@usbr.gov. The Final EIS/EIR may be viewed at the Bureau of Reclamation's Web site at http://www.usbr.gov/mp/nepa/nepa_projdetails.cfm?Project_ID=9086. See SUPPLEMENTARY INFORMATION section for locations where copies of the Final EIS/EIR are available for public inspection.

FOR FURTHER INFORMATION CONTACT: Mr. Brad Hubbard, Natural Resources Specialist, at 916-978-5204, or email at bhubbard@usbr.gov; or Ms. Joann White, San Joaquin River Exchange Contractors Water Authority, at 209-827-8616, or email at jwhite@sjrecwa.net.

SUPPLEMENTARY INFORMATION: The San Joaquin River Exchange Contractors Water Authority (Exchange Contractors) proposes to make up to 150,000 acre-feet of water available via tailwater recovery, water conservation, and temporary land fallowing for transfer and/or exchange of substitute water to either the state and Federal wildlife refuges, Central Valley Project (CVP) contractors for existing municipal and industrial (M&I) and/or agricultural areas, and other potential State Water Project (SWP) contractors for agricultural and/or M&I uses, or to some combination of these users. The Bureau of Reclamation (Reclamation), Mid-Pacific Region; CVP and SWP contractors; and the Exchange Contractors would execute agreements for water transfers for water service years 2014 to 2038. A similar 10-year program ends February 28, 2014.

The water transfers would occur largely within the San Joaquin Valley of central California but could extend to districts taking water deliveries in the east San Francisco Bay Area. The Exchange Contractors' service area covers parts of Fresno, Madera, Merced, and Stanislaus counties. The agricultural water users that would benefit from the potential transfers are located in the counties of Stanislaus, San Joaquin, Merced, Madera, Fresno, San Benito, Santa Clara, Tulare, Kern, Kings, Contra Costa, Alameda, Monterey, and Santa Cruz counties. The wetland habitat areas that may receive water are located in Merced, Fresno, Kings, Tulare, and Kern counties.

One public hearing was held on June 13, 2012 in Los Banos, California.

Copies of the Final EIS/EIR are available for public inspection and review at the following locations:

• Bureau of Reclamation, Regional Library, 2800 Cottage Way, Sacramento, CA 95825-1898

• California State Library, 914 Capitol Mall, Suite E-29, Sacramento, CA 95814-4802

• University of California, Berkeley, Water Resources Center Archives, 410 O'Brien Hall, Berkeley, CA 94720-1718

• University of California, Davis, Peter J. Shields Library, Documents Department, 100 Northwest Quad, Davis, CA 95616-5292

• California Research Bureau, California State Library, PO Box 942837, Sacramento, CA 94237-0001

• Fresno County Public Library, Government Publications, 2420 Mariposa Street Fresno, CA 93721-2204

• Merced County Library, 2100 O Street, Merced, CA 95340-3637

• Merced County Public Library, 1312 South 7th Street, Los Banos, CA 93635-4757

• Stanislaus County Library, 1500 I Street, Modesto, CA 95354

• San Francisco Public Library, Government Documents Department, 100 Larkin Street, San Francisco, CA 94102

Public Disclosure

Before including your address, phone number, email address, or other personal identifying information in any communication, you should be aware that your entire communication—including your personal identifying information—may be made publicly available at any time. While you can ask us in your communication to withhold your personal identifying information from public review, we cannot guarantee that we will be able to do so.

Dated: January 25, 2013.
Michelle Denning,
Acting Regional Director, Mid-Pacific Region.

[FR Doc. 2013-02076 Filed 1-30-13; 8:45 am]

BILLING CODE 4310-MN-P